DEPARTMENT OF HOUSING AND URBAN DEVELOPMENT

[Docket No. FR-4565-N-12]

Notice of Proposal Information Collection: Comment Request; Housing Owners Certification and Application for Housing Assistance Payments, Schedule of Tenant Assistant Payments Due, Special Claims, Unpaid Rent/Damages, Vacancies

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 7, 2000.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, DC. 20410, telephone (202) 708-5221 (this is not a toll-free number) for copies of the proposed forms and other available information.

FOR FURTHER INFORMATION CONTACT: Willie Spearmon, Multifamily Housing, Office of Business Products, Department of Housing and Urban Development, 451 7th Street SW, Washington, DC 20410, telephone number (202) 708-3000 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Housing Owners Certification and Application for Housing Assistance Payments, Schedule of Tenant Assistant Payments Due, Special Claims, Unpaid Rent/Damages, Vacancies.

OMB Control Number, if applicable: 2502-0182.

Description of the need for the information and proposed use: The forms must be completed so HUD can pay owners the difference between the gross rent and the total tenant payment (housing assistance payments) according to regulation.

Agency form numbers, if applicable: HUD-52670, HUD-52670-A Part 1 and HUD-52670-A Part 2, 52671A-D.

Estimation of the total number of hours needed to prepare the information collection including number of respondents, frequency of response, and hours of response: The estimated number of respondents is 38,252, frequency of responses is 40, the average time to complete form 52670A (Part 1) is 30 minutes, form 52670A (Part 2) is 20 minutes, and 52671A-D is 20 minutes, and annual burden hours requested are 158,792.

Status of the proposed information collection: Reinstatement without change.

Authority: The Paperwork Reduction Act of 1995, 44 U.S.C., Chapter 35, as amended.

Dated: April 30, 2000.
William C. Apgar,
Assistant Secretary for Housing-Federal Housing Commissioner.

[FR Doc. 00-11337 Filed 5-05-00; 8:45 am]

BILLING CODE 4210-27-M